DEPARTMENT OF TRANSPORTATION

National Highway Traffic Safety Administration

[Docket No. NHTSA-2007-0026; Notice 2]

General Motors Corporation, Grant of Petition for Decision of Inconsequential Noncompliance

General Motors Corporation (GM) has determined that certain model year 2006 and 2007 motor vehicles equipped with remote start systems that it manufactured prior to May of 2007, did not fully comply with paragraph S7.3(a)(1) of 49 CFR 571.208, Federal Motor Vehicle Safety Standard (FMVSS) No. 208 Occupant Crash Protection. On August 27, 2007, GM filed an appropriate report pursuant to 49 CFR part 573, Defect and Noncompliance Responsibility and Reports identifying approximately 146,360 model year 2006 and 2007 motor vehicles including Buick Lacrosse and Pontiac Grand Prix passenger cars; and Buick Terraza, Chevrolet Uplander, Pontiac Montana SV6 and Saturn Relay multipurpose passenger vehicles that do not comply with the paragraph of FMVSS No. 208 cited above.

Pursuant to 49 U.S.C. 30118(d) and 30120(h) and the rule implementing those provisions at 49 CFR part 556, GM has petitioned for an exemption from the notification and remedy requirements of 49 U.S.C. Chapter 301 on the basis that this noncompliance is inconsequential to motor vehicle safety. Notice of receipt of the petition was published, with a 30-day public comment period, on November 9, 2007 in the Federal Register (72 FR 63653). No comments were received. To view the petition and all supporting documents log onto the Federal Docket Management System (FDMS) Web site at: http://www.regulations.gov/. Then follow the online search instructions to locate docket number “NHTSA-2007-0026.”

For further information on this decision, contact Mr. Charles Case, Office of Vehicle Safety Compliance, the National Highway Traffic Safety Administration (NHTSA), telephone (202) 366-5319, facsimile (202) 366-5930.

GM certified these vehicles to paragraph S7.3(a)(1) of 49 CFR 571.208 which requires:

S7.3 (a) A seat belt assembly provided at the driver's seating position shall be equipped with a warning system that, at the option of the manufacturer, either—

(1) Activates a continuous or intermittent audible signal for a period of not less than 4 seconds and not more than 8 seconds and that activates a continuous or flashing warning light visible to the driver displaying the identifying symbol for the seat belt telltale shown in Table 2 of FMVSS 101 or, at the option of the manufacturer if permitted by FMVSS 101, displaying the words “Fasten Seat Belts” or “Fasten Belts”, for not less than 60 seconds (beginning when the vehicle ignition switch is moved to the “on” or the “start” position) when condition (b) exists simultaneously with condition (c)* * *

(b) The vehicle's ignition switch is moved to the “on” position or to the “start” position.

(c) The driver's lap belt is not in use, as determined, at the option of the manufacturer, either by the belt latch mechanism not being fastened, or by the belt not being extended at least 4 inches from its stowed position.

GM explains that under certain circumstances following a remote engine start that the seatbelt assembly warning system audible signal and/or the telltale warning light do not always activate as required to fully comply with FMVSS No. 208.

The vehicles in question fall into two groups. The first group contains only 2006 model year vehicles. The second group consists of a few late production 2006 multipurpose passenger vehicles and all the 2007 vehicles reported. For simplification, these groups are referenced hereafter as the 2006 and the 2007s.

GM states that when a subject vehicle's engine is started using the ignition key (not with remote start), three warning cycles are provided to unbelted occupants for the 2007 vehicles. The first warning cycle satisfies the requirements specified in FMVSS No. 208 S7.3(a)(l) for the unbuckled driver. The second and third cycles provide additional audible and telltale warnings, of the same duration required by the standard, for drivers who remain unbuckled. The 2006 vehicles receive only the first cycle of driver and passenger warnings. If at anytime the driver buckles, the warnings will cease.

GM additionally explains that in some cases, if the vehicle is started using the remote start function the seatbelt assembly warning system will not activate upon key rotation to the “RUN” position as specified by FMVSS No. 208 S7.3(a)(l). For both 2006 and 2007 vehicles following remote start, an audible warning will sound when the key is rotated to the “RUN” position, but the required telltale warning may not be provided. The length of the telltale warning for the first warning cycle is decreased by the amount of time between when the engine is started and when the key is turned to the “RUN” position. Therefore, a driver who uses the remote start and then quickly enters the vehicle and turns the key to “Run” will receive a visual warning for some period. However, a driver who uses the remote start but does not turn the key to “RUN” for a longer period will receive no visual warning unless the vehicle has the supplemental warning cycles. The driver, buckled or unbuckled, receives an audible warning except in the situation where the front passenger buckles between 25 and 33 seconds following the remote start (in effect buckling in response to the chime and silencing it before the driver enters the vehicle).

For the 2006 vehicles, as originally manufactured, there were no supplemental warning signal cycles. The 2007 vehicles were provided with an enhanced safety belt reminder system that will activate if front outboard occupants are not belted and the vehicle speed is above 5 miles per hour (mph). The 2007 vehicles will provide two cycles of audible and visual belt warning notice in such conditions.

GM also provided a detailed explanation of the reasons why it believes that the noncompliance is inconsequential to motor vehicle safety.

In summary, GM states that for all of the subject vehicles, the unbuckled driver receives a warning when the ignition key is turned to the “RUN” position essentially every time:

(1) When the vehicles are started with its ignition key, the required seat belt warnings are provided.

(2) When the 2007 vehicles and the upgraded ¹ 2006 vehicles are started remotely, the unbuckled driver receives, at a minimum, the audible warning when the ignition key turned to the “RUN” position plus 2 cycles of visual and audible warning when the vehicle's speed reaches 5 mph.

¹ General Motors has initiated a Customer Satisfaction Program to upgrade the belt reminder system on the 2006 vehicles to provide three sets of warning cycles as implemented on the 2007 vehicles and has sent letters to the customers of those vehicles informing them about the upgrade.

(3) When the 2006 vehicles are started remotely, the unbuckled driver will receive, at a minimum, the audible warning.

The only exception where an audible warning is not provided is when the front passenger buckles between 25 and 33 seconds following the remote start (in effect buckling in response to the chime and silencing it before the driver enters the vehicle).

GM states that it believes that because the noncompliances are inconsequential to motor vehicle safety that no further corrective action is warranted.

NHTSA Decision

The following explains our rationale.

There are two separate starting procedures for these vehicles. One uses the key to start the vehicle. The second uses the remote start feature.

Key Starting for All Vehicles

When the key is used to start the vehicle, the seat belt warning system meets the requirements of the standard because the driver receives the required visible and audible warnings when not buckled. This is the case for both the 2006 and 2007 groups of vehicles.

Remote Start With Enhanced Seat Belt Warning Systems

For the 2007 group of vehicles (and the 2006 vehicles that have been upgraded through the customer service program) using remote start, a 6-second audible and 75-second telltale warning is provided if the front outboard occupants (driver and passenger) are not belted and the vehicle speed exceeds 5 mph. These meet the time requirements of S7.3(a)(1) and provide an audible and visual warning as intended by the requirement. In addition, the warnings go beyond the requirement because (1) The visual telltale warning is on 15 seconds longer than required by the standard, (2) the warnings include the non-regulated front outboard passenger, and (3) the warnings repeat for an additional period if the front occupants do not react to the first warning. The purpose of the requirement is met because (1) both the audible and visual warnings are activated at a low enough speed that the occupants have time to react to the reminders before traveling very far and before attaining a high speed, and (2) the warnings that do activate go beyond the requirements in certain aspects.

Remote Start for Reprogrammed Seat Belt Warning Systems

For the 2006 group of vehicles using remote start, the additional warnings are not available. However, GM has instituted a Customer Satisfaction Program to reprogram these vehicles so that they have the same seat belt warning system as the 2007 vehicles discussed previously.

Remote Start for Non-Reprogrammed Seat Belt Warning Systems

GM has indicated there are 75,416 vehicles in the 2006 group that are eligible for reprogramming. GM also estimates that 50 percent of those vehicles will actually be taken to the dealer for the customer service campaign. Thus, an estimated 37,708 vehicles may eventually not have the enhanced seat belt warning system. Even in these vehicles the driver will still receive a 6-second audible warning signal that meets the requirements of FMVSS No. 208.

Exception

The final condition to consider for both the 2006 and 2007 groups is when the passenger buckles the seat belt 25 to 33 seconds after remote start. In this condition, there may be no audible warning or visual telltale. This does not appear to be a condition that is likely to happen. It would be logical to assume that the remote start normally is used for warming the engine, or warming or cooling the interior of the vehicle prior to getting in the vehicle. Since these conditions could not generally occur within 25 to 33 seconds of remote start, we estimate this condition will not likely occur during normal vehicle operation. Moreover, for this scenario to occur, the passenger must buckle the belt in a small window of time (25 to 33 seconds after a remote start) before the driver enters and turns the key to “RUN.” If the driver enters first and turns the key to “RUN” or if the passenger buckles the belt before or after the 8-second window, the audible warning, and perhaps some visual warnings will function.

Decision

Because GM has offered to provide a very helpful upgrade to the vehicles most affected by this problem, and because in all but one rare condition (which we estimate will not likely occur) there is an audible and/or visual seat belt warning, NHTSA has decided that GM has met its burden of persuasion that the seat belt warning system noncompliances described are inconsequential to motor vehicle safety. Accordingly, GM's petition is granted and the petitioner is exempted from the obligation of providing notification of, and a remedy for, the noncompliances under 49 U.S.C. 30118 and 30120.

Authority: 49 U.S.C. 30118, 30120; delegations of authority at 49 CFR 1.50 and 501.8.

Issued on: April 22, 2008.
Daniel C. Smith,
Associate Administrator for Enforcement.

[FR Doc. E8-9247 Filed 4-28-08; 8:45 am]

BILLING CODE 4910-59-P